DEPARTMENT OF ENERGY

Federal Energy Regulatory Commission

[Docket No. CP21-94-000]

Transcontinental Gas Pipe Line Company, LLC; Notice Granting Interventions

On April 9, 2021, the Commission issued notice of Transcontinental Gas Pipe Line Company, LLC's (Transco) application pursuant to section 7(c) of the Natural Gas Act for a certificate of public convenience and necessity to construct and operate the Regional Energy Access Expansion Project. The notice established April 30, 2021, as the deadline for filing motions to intervene.

On March 2, 2022, the Commission issued the Notice of Availability of the Draft Environmental Impact Statement for the project and opened a new intervention and comment period ending on April 25, 2022. Pursuant to the Commission's regulations, any person may file to intervene on environmental grounds based on the draft EIS and such intervention will be deemed timely if filed within the draft EIS comment period.¹

¹ 18 CFR 157.10(a)(2) (2021) (providing that “any person may file to intervene on environmental grounds based on the draft environmental impact”); id. at § 380.10(a)(1)(i) (allowing any person to file a motion to intervene on the basis of a draft environmental impact statement).

On April 25, 2022, the New Jersey League of Conservation Voters filed timely, doc-less motions to intervene noting multiple environmental concerns regarding the project. On April 25, 2022, the New Jersey Conservation Foundation filed a timely motion to intervene environmental concerns regarding the project's GHG emissions and proximity to environmental justice communities. Transco opposes these motions for failing to show “good cause” by stating that they have a clear and direct interest in this proceeding which no other party can adequately represent.²

² Transco May 10, 2022 Answer Opposing Motions to Intervene in Docket No. CP21-94.

Pursuant to Rule 214(c)(2) of the Commission's Rules of Practice and Procedure,³ if an answer in opposition to a timely motion to intervene is filed within 15 days after the motion to intervene is filed, the movant becomes a party only when the motion is expressly granted. Because both New Jersey League of Conservation Voters and the New Jersey Conservation Foundation demonstrated that they represent interests that may be affected by the outcome of this proceeding and identified environmental grounds for their interventions, their motions to intervene are granted.

³ 18 CFR 385.214(c)(2) (2021).

Dated: September 7, 2022.
Kimberly D. Bose,
Secretary.

[FR Doc. 2022-19722 Filed 9-12-22; 8:45 am]

BILLING CODE 6717-01-P